COMMITTEE FOR PURCHASE FROM PEOPLE WHO ARE BLIND OR SEVERELY DISABLED

Procurement List Additions and Deletions

AGENCY: Committee for Purchase from People Who Are Blind or Severely Disabled.

ACTION: Additions to and deletions from Procurement List.

SUMMARY: This action adds to the Procurement List a product and a service to be furnished by nonprofit agencies employing persons who are blind or have other severe disabilities, and deletes from the Procurement List products previously furnished by such agencies.

DATES: Effective Date: May 14, 2006.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, Telephone: (703) 603-7740, Fax: (703) 603-0655, or e-mail SKennerly@jwod.gov.

SUPPLEMENTARY INFORMATION:

Additions

On January 20, and February 17, 2006, the Committee for Purchase From People Who Are Blind or Severely Disabled published notice (71 FR 3259, and 8565) of proposed additions to the Procurement List.

After consideration of the material presented to it concerning capability of qualified nonprofit agencies to provide the product and service and impact of the additions on the current or most recent contractors, the Committee has determined that the product and service listed below are suitable for procurement by the Federal Government under 41 U.S.C. 46-48c and 41 CFR 51-2.4.

The Following Comments Pertain to Filter, Element Coalescer

Comments were received from the most recent contractor for the Filter, Element Coalescer, in response to a request for sales data. The contractor stated that it held four contracts for this product in 2004, during which the contractor made considerable investments in capital equipment. The contractor also indicated intent to make further investments to produce the product for future contracts. The contractor stated that it makes the product on Native American property, with nearly all its employees being Native Americans. According to the contractor, loss of the opportunity to produce this product for the Government will result in discharge of about twenty people, who will have very few employment areas in that depressed area. Government records show that the four contracts this contractor cited are the only contracts for this product which this contractor has held. Furthermore, the value of those contracts was less than ten percent of the contractor's total sales. Therefore, the contractor cannot be considered dependent on contracts for the product. In addition, because the contractor would not be guaranteed to receive future contracts if the product remained in the competitive bidding system, the contractor's inability to recoup its capital investment is not a significant factor in the Committee's impact decision. The Government has not purchased this product since 2004. Consequently, it is likely that any job loss attributable to the product will have already occurred. In view of these facts, the Committee has concluded that addition of the product to the Procurement List is not likely to have a severe adverse impact on the contractor.

The following material pertains to all of the items being added to the Procurement List.

Regulatory Flexibility Act Certification

I certify that the following action will not have a significant impact on a substantial number of small entities. The major factors considered for this certification were:

1. The action will not result in any additional reporting, recordkeeping or other compliance requirements for small entities other than the small organizations that will furnish the product and service to the Government.

2. The action will result in authorizing small entities to furnish the product and service to the Government.

3. There are no known regulatory alternatives which would accomplish the objectives of the Javits-Wagner-O'Day Act (41 U.S.C. 46-48c) in connection with the product and service proposed for addition to the Procurement List.

End of Certification

Accordingly, the following product and service are added to the Procurement List:

Product

Product/NSN: Filter, Element Coalescer

4330-00-983-0998—Filter, Element Coalescer

NPA: New Ventures Enterprises, Inc., LaGrange, Georgia

Contracting Activity: Defense Supply Center Columbus, Columbus, Ohio

Service

Service Type/Location: Grounds Maintenance & Snow Removal, Bishop Henry Whipple Federal Building, 1 Federal Drive, Fort Snelling, Minnesota

NPA: Tasks Unlimited, Inc., Minneapolis, Minnesota

Contracting Activity: GSA, Public Buildings Service, Region 5, Chicago, Illinois

Deletions

On February 17, 2006, the Committee for Purchase From People Who Are Blind or Severely Disabled published notice (71 FR 8565/8566) of proposed deletions to the Procurement List.

After consideration of the relevant matter presented, the Committee has determined that the products listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the products to the Government.

3. There are no known regulatory alternatives which would accomplish the objectives of the Javits-Wagner-O'Day Act (41 U.S.C. 46-48c) in connection with the products deleted from the Procurement List.

End of Certification

Accordingly, the following products are deleted from the Procurement List:

Products

Product/NSN: Frame With Handle and Dustmop Head

7920-00-NIB-0311—Frame With Handle and Dustmop Head

7920-00-NIB-0252—Frame With Handle and Dustmop Head

7920-00-NIB-0312—Frame With Handle and Dustmop Head

7920-00-NIB-0244—Frame With Handle and Dustmop Head

7920-00-NIB-0309—Frame With Handle and Dustmop Head

7920-00-NIB-0253—Frame With Handle and Dustmop Head

7920-00-NIB-0243—Frame With Handle and Dustmop Head

7920-00-NIB-0304—Frame With Handle and Dustmop Head

7920-00-NIB-0305—Frame With Handle and Dustmop Head

7920-00-NIB-0306—Frame With Handle and Dustmop Head

7920-00-NIB-0307—Frame With Handle and Dustmop Head

7920-00-NIB-0310—Frame With Handle and Dustmop Head

7920-00-NIB-0242—Frame With Handle and Dustmop Head

7920-00-NIB-0254—Frame With Handle and Dustmop Head

7920-00-NIB-0240—Frame With Handle and Dustmop Head

7920-00-NIB-0241—Frame With Handle and Dustmop Head

7920-00-NIB-0313—Frame With Handle and Dustmop Head

7920-00-NIB-0314—Frame With Handle and Dustmop Head

7920-00-NIB-0315—Frame With Handle and Dustmop Head

7920-00-NIB-0316—Frame With Handle and Dustmop Head

7920-00-NIB-0317—Frame With Handle and Dustmop Head

7920-00-NIB-0318—Frame With Handle and Dustmop Head

7920-01-512-2718—Frame With Handle and Dustmop Head

7920-01-512-2719—Frame With Handle and Dustmop Head

7920-00-NIB-0308—Frame With Handle and Dustmop Head

NPA: New York City Industries for the Blind, Inc., Brooklyn, New York

Contracting Activity: Veterans Affairs National Acquisition Center, Hines, Illinois

Product/NSN: Mop, Dusting, Cotton

7920-00-205-0484—Mop, Dusting, Cotton

7920-00-205-0483—Mop, Dusting, Cotton

7920-00-205-0481—Mop, Dusting, Cotton

NPA: New York City Industries for the Blind, Inc., Brooklyn, New York

Contracting Activity: GSA, Southwest Supply Center, Fort Worth, Texas

Product/NSN: Mophead, Dust

7920-00-NIB-0158—Mophead, Dust

7920-00-NIB-0157—Mophead, Dust

7920-00-NIB-0156—Mophead, Dust

7920-00-NIB-0159—Mophead, Dust

NPA: New York City Industries for the Blind, Inc., Brooklyn, New York

Contracting Activity: Veterans Affairs National Acquisition Center, Hines, Illinois

Product/NSN: Mophead, Dusting, Cotton

7920-00-205-0488—Mophead, Dusting, Cotton

7920-00-205-0487—Mophead, Dusting, Cotton

7920-00-205-0485—Mophead, Dusting, Cotton

NPA: New York City Industries for the Blind, Inc., Brooklyn, New York

Contracting Activity: GSA, Southwest Supply Center, Fort Worth, Texas

Sheryl D. Kennerly,
Director, Information Management.

[FR Doc. E6-5585 Filed 4-13-06; 8:45 am]

BILLING CODE 6353-01-P